DEPARTMENT OF COMMERCE

National Oceanic and Atmospheric Administration

[I.D. 110905B]

Magnuson-Stevens Act Provisions; Atlantic Highly Migratory Species; Exempted Fishing, Scientific Research, Display, and Chartering Permits

AGENCY: National Marine Fisheries Service (NMFS), National Oceanic and Atmospheric Administration (NOAA), Commerce.

ACTION: Notice of intent to issue exempted fishing, scientific research, display, and chartering permits; request for comments.

SUMMARY: NMFS announces the intent to issue Exempted Fishing Permits (EFPs), Scientific Research Permits (SRPs), Display Permits, and Chartering Permits for the collection of Atlantic highly migratory species (HMS). The permits would authorize collections of a limited number of tunas, swordfish, billfishes, and sharks from Federal waters in the Atlantic Ocean and Gulf of Mexico for the purposes of scientific data collection and public display. Generally, these permits would be valid from the date of issuance through December 31, 2006. NMFS also announces the intent to consider issuing permits upon receiving applications from U.S. fishermen whose vessels fish for Atlantic HMS while operating under chartering arrangements within the Exclusive Economic Zone (EEZ) of other nations to collect data consistent with the International Commission for the Conservation of Atlantic Tunas (ICCAT) recommendations and to ensure consistency with that country's regulations without violating U.S. regulations.

DATES: Written comments on these collection, research, and fishing activities will be considered by NMFS when issuing EFPs, SRPs, Display, and/or Chartering Permits if received on or before December 29, 2005.

ADDRESSES: Comments may be submitted by any of the following methods:

• Email: ID110905B@noaa.gov. Include in the subject line the following identifier: I.D. 110905B.

• Mail: Margo Schulze-Haugen, Chief, Highly Migratory Species Management Division (F/SF1), NMFS, 1315 East-West Highway, Silver Spring, MD 20910.

• Fax: (301)713-1917.

FOR FURTHER INFORMATION CONTACT: Heather Stirratt, by phone: (301)713-2347; or fax: (301)713-1917.

SUPPLEMENTARY INFORMATION: EFPs, SRPs, Display, and Chartering Permits are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, chartering arrangements, and exempted educational activity with respect to Atlantic HMS.

Issuance of EFPs, SRPs, Display, and Chartering Permits may be necessary for the collection of scientific data and for public display because the possession of certain shark species is prohibited, possession of billfishes on board commercial fishing vessels is prohibited, and/or because the commercial fisheries for bluefin tuna, swordfish, and large coastal sharks may be closed for extended periods, during which time the collection of live animals and/or biological samples would be otherwise prohibited. Collection of bluefin tuna may be authorized for scientific research, age and growth, genetic, and spawning studies. NMFS regulations at 50 CFR 635.32 regarding the implantation or attachment of archival tags in Atlantic HMS require prior authorization and a report on implantation activities.

NMFS seeks public comment on its intent to issue EFPs for the purpose of collecting biological samples under at-sea fisheries observer programs. NMFS intends to issue EFPs to any NMFS employee or NMFS-approved contractor/observer to bring onboard and possess (for scientific research purposes, biological sampling, measurement, etc.) any Atlantic swordfish, Atlantic shark, or Atlantic billfish provided the fish is a tag recapture fish, dead prior to being brought onboard, or specifically authorized for sampling by the Director of NMFS' Office of Sustainable Fisheries at the request of the Southeast Fisheries Science Center or the Northeast Fisheries Science Center. On average, several hundred swordfish and sharks are collected by at-sea observers under such EFPs in any given year.

NMFS is also seeking public comment on its intent to issue Display Permits for the collection of restricted species of sharks for the purpose of public display. In the Final Fishery Management Plan for Atlantic Tunas, Swordfish, and Sharks (1999 HMS FMP), NMFS established a 60 metric ton wet weight quota for the public display and research of sharks. NMFS preliminarily determined that, based on average weight of sharks landed, approximately 3,000 sharks could be taken with this current quota. The actual number of sharks taken depends on the species and size of the sharks collected. NMFS believes that harvesting this amount for public display will have a minimal impact on the stock and that the number of sharks harvested for display and research will remain under the annual 60 metric ton quota. In 2005, seven Display Permits were issued, authorizing the collection of 258 large coastal, 133 small coastal, and 92 prohibited sharks for display purposes. The total number reported as actually taken will not be known until early 2006. However, of the 373 large coastal, 60 small coastal, and 72 prohibited sharks authorized for collection via the issuance of nine Display Permits in 2004, only 10 large coastal sharks, no small coastal sharks, and nine prohibited species were reported taken from Federal waters. In 2004, 23.68 percent of the shark display and research quota was used for public display collections.

Generally, authorized collections or exemptions involve activities otherwise prohibited by regulations implementing the 1999 HMS FMP and Amendment 1 to the Atlantic Billfish FMP. The EFPs, if issued, may authorize recipients to fish for and possess tunas, billfish, swordfish, and sharks outside the applicable Federal commercial seasons, size limits and/or retention limits; to fish for and possess prohibited species; or to fish for and possess HMS collected for research purposes in closed areas. NMFS may consider exempted fishing applications for bycatch reduction research in closed regions of the Atlantic Ocean, Gulf of Mexico, and Caribbean Sea to test gear modifications and fishing techniques aimed to avoid incidental capture of non-target species. Such applications would likely require further National Environmental Policy Act (NEPA) analyses and possibly public comment.

Comments are also requested on the issuance of Chartering Permits to vessels fishing for HMS while operating under chartering arrangements within the EEZ of other nations. Chartering Permits allow a U.S. fishing vessel to fish in a manner consistent with another country's regulations without violating U.S. regulations, and ensure that such vessels report to the proper authorities, consistent with ICCAT recommendations. To date, NMFS has only issued one Chartering Permit for a pelagic longline vessel.

Table 1 summarizes the number of exempted permits and authorized collections in 2004 and 2005, as well as the number of specimens collected in 2004. The number of specimens collected in 2005 will be available when all of the 2005 annual reports are submitted to NMFS. In 2004, the number of authorized specimens for collection was greater than the number specimens actually collected under each permit. A total of 43 exempted permits were issued by NMFS in 2004 for the collection of HMS, whereas the number of permits issued in 2005 declined to 35 permits. In both 2004 and 2005, the greatest number of exempted permits issued were Tuna EFPs. Shark SRPs had the greatest number of specimens authorized for collection in 2004, whereas tuna EFPs authorized the greatest number of specimens in 2005.

Final decisions on the issuance of any EFPs, SRPs, Display, and Chartering Permits will depend on the submission of all required information about the proposed activities, NMFS' review of public comments received on this notice, consistency with conclusions in the Final Environmental Impact Statement (EIS) contained in the Final HMS FMP (64 FR 13575; March 19, 1999), Environmental Assessments (EAs) or EISs, and any consultations with appropriate Regional Fishery Management Councils, states, or Federal agencies. NMFS does not anticipate any environmental impacts from the issuance of these EFPs other than impacts already assessed in the 1999 HMS FMP.

All requests for EFPs, SRPs, Display, and Chartering Permits of a type or nature not addressed in this Federal Register notice will have a separate notice filed and separate public comment period.

Authority: 16 U.S.C. 971 et seq. and 16 U.S.C. 1801 et seq.

Dated: November 22, 2005.
Alan D. Risenhoover,
Acting Director, Office of Sustainable Fisheries, National Marine Fisheries Service.

[FR Doc. 05-23469 Filed 11-28-05; 8:45 am]

BILLING CODE 3510-22-S